DEPARTMENT OF LABOR

Agency Information Collection Activities; Submission for OMB Review; Comment Request; Anhydrous Ammonia Storage and Handling Standard

Correction

In notice document 2024-04512 appearing on page 15617 in the issue of Monday, March 4, 20024, make the following correction:

In the first column, under the heading DATES, in the third line “March 4, 2024” should read “April 3, 2024”.

[FR Doc. C1-2024-04512 Filed 3-8-24; 8:45 am]

BILLING CODE 1505-01-D